DEPARTMENT OF ENERGY

Federal Energy Regulatory Commission

Combined Notice of Filings #1

Take notice that the Commission received the following electric corporate filings:

Docket Numbers: EC23-124-000.

Applicants: Hoosier Wind Project, LLC, Indianapolis Power & Light Company.

Description: Second Supplement to August 23, 2023, Joint Application for Authorization Under Section 203 of the Federal Power Act of Hoosier Wind Project, LLC, et al.

Filed Date: 11/9/23.

Accession Number: 20231109-5293.

Comment Date: 5 p.m. ET 11/20/23.

Docket Numbers: EC24-17-000.

Applicants: Heartland Generation Ltd., TransAlta Corporation.

Description: Application for Authorization Under Section 203 of the Federal Power Act of Heartland Generation Ltd.

Filed Date: 11/8/23.

Accession Number: 20231108-5175.

Comment Date: 5 p.m. ET 11/29/23.

Docket Numbers: EC24-18-000.

Applicants: Innovative Solar 42, LLC.

Description: Application for Authorization Under Section 203 of the Federal Power Act of Innovative Solar 42, LLC.

Filed Date: 11/13/23.

Accession Number: 20231113-5277.

Comment Date: 5 p.m. ET 12/4/23.

Take notice that the Commission received the following exempt wholesale generator filings:

Docket Numbers: EG24-27-000.

Applicants: Longbow BESS, LLC.

Description: Longbow BESS, LLC submits Notice of Self-Certification of Exempt Wholesale Generator Status.

Filed Date: 11/13/23.

Accession Number: 20231113-5054.

Comment Date: 5 p.m. ET 12/4/23.

Take notice that the Commission received the following electric rate filings:

Docket Numbers: ER22-1778-000.

Applicants: Midway-Sunset Cogeneration Company.

Description: True-Up and Refund Report of Midway Sunset Cogeneration Company.

Filed Date: 11/8/23.

Accession Number: 20231108-5180.

Comment Date: 5 p.m. ET 11/29/23.

Docket Numbers: ER23-1782-001.

Applicants: Versant Power.

Description: Compliance filing: Order No. 676-J Supplemental Compliance Filing & Request for Waivers (ER23-1782) to be effective 2/1/2024.

Filed Date: 11/13/23.

Accession Number: 20231113-5118.

Comment Date: 5 p.m. ET 12/4/23.

Docket Numbers: ER23-2646-001.

Applicants: Alabama Power Company, Georgia Power Company, Mississippi Power Company.

Description: Tariff Amendment: Alabama Power Company submits tariff filing per 35.17(b): Hecate Energy Cedar Springs Solar LGIA Deficiency Response to be effective 8/7/2023.

Filed Date: 11/13/23.

Accession Number: 20231113-5165.

Comment Date: 5 p.m. ET 12/4/23.

Docket Numbers: ER23-2937-000; ER23-2938-000; ER23-2939-000.

Applicants: Wolfskin Solar, LLC, Blackwater Solar, LLC, Bird Dog Solar, LLC.

Description: Supplement to September 28, 2023 Bird Dog Solar, LLC, et al. tariff filing.

Filed Date: 11/6/23.

Accession Number: 20231106-5176.

Comment Date: 5 p.m. ET 11/27/23.

Docket Numbers: ER24-376-000.

Applicants: PJM Interconnection, L.L.C.

Description: § 205(d) Rate Filing: Original NSA, Service Agreement No. 7135; Queue No. AF2-130 to be effective 1/9/2024.

Filed Date: 11/13/23.

Accession Number: 20231113-5000.

Comment Date: 5 p.m. ET 12/4/23.

Docket Numbers: ER24-377-000.

Applicants: Devon Energy Production Company, LP.

Description: Baseline eTariff Filing: Market-Based Rate Tariff to be effective 12/26/2023.

Filed Date: 11/13/23.

Accession Number: 20231113-5001.

Comment Date: 5 p.m. ET 12/4/23.

Docket Numbers: ER24-378-000.

Applicants: Duke Energy Progress, LLC.

Description: § 205(d) Rate Filing: DEP-DEP Surplus Interconnection Related Agreements to be effective 11/11/2023.

Filed Date: 11/13/23.

Accession Number: 20231113-5005.

Comment Date: 5 p.m. ET 12/4/23.

Docket Numbers: ER24-379-000.

Applicants: California Independent System Operator Corporation.

Description: § 205(d) Rate Filing: 2023-11-08 CAISO BA Participation in EDAM to be effective 12/31/9998.

Filed Date: 11/13/23.

Accession Number: 20231113-5006.

Comment Date: 5 p.m. ET 12/4/23.

Docket Numbers: ER24-380-000.

Applicants: Fowler Ridge II Wind Farm LLC.

Description: § 205(d) Rate Filing: Revised Market-Based Rate Tariff Filing to be effective 11/14/2023.

Filed Date: 11/13/23.

Accession Number: 20231113-5064.

Comment Date: 5 p.m. ET 12/4/23.

Docket Numbers: ER24-381-000.

Applicants: Flat Ridge 2 Wind Energy LLC.

Description: § 205(d) Rate Filing: Revised Market-Based Rate Tariff Filing to be effective 11/14/2023.

Filed Date: 11/13/23.

Accession Number: 20231113-5065.

Comment Date: 5 p.m. ET 12/4/23.

Docket Numbers: ER24-382-000.

Applicants: PJM Interconnection, L.L.C.

Description: § 205(d) Rate Filing: Original UCSAs, Service Agreement Nos. 7132 and 7133; Queue No. J1180 to be effective 10/19/2023.

Filed Date: 11/13/23

Accession Number: 20231113-5076.

Comment Date: 5 p.m. ET 12/4/23.

Docket Numbers: ER24-383-000.

Applicants: Northern Indiana Public Service Company LLC.

Description: § 205(d) Rate Filing: MoodyTap CIAC Agreement to be effective 1/1/2024.

Filed Date: 11/13/23.

Accession Number: 20231113-5087.

Comment Date: 5 p.m. ET 12/4/23.

Docket Numbers: ER24-384-000.

Applicants: Tri-State Generation and Transmission Association, Inc.

Description: § 205(d) Rate Filing: Initial Filing of Rate Schedule FERC No. 361 to be effective 11/7/2023.

Filed Date: 11/13/23.

Accession Number: 20231113-5088.

Comment Date: 5 p.m. ET 12/4/23.

Docket Numbers: ER24-385-000.

Applicants: Tri-State Generation and Transmission Association, Inc.

Description: Tariff Amendment: Notice of Cancellation of Rate Schedule FERC No. 352 to be effective 11/7/2023.

Filed Date: 11/13/23.

Accession Number: 20231113-5094.

Comment Date: 5 p.m. ET 12/4/23.

Docket Numbers: ER24-386-000.

Applicants: Public Service Company of Colorado.

Description: Compliance filing: 2023-11-10—SPS 864 Compliance Filing to be effective 1/27/2020.

Filed Date: 11/13/23.

Accession Number: 20231113-5226.

Comment Date: 5 p.m. ET 12/4/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 13, 2023.
Debbie-Anne A. Reese,
Deputy Secretary.

[FR Doc. 2023-25532 Filed 11-17-23; 8:45 am]

BILLING CODE 6717-01-P